FEDERAL COMMUNICATIONS COMMISSION

47 CFR Part 73

[DA 08-272; MB Docket No. 05-150; RM-11214]

Radio Broadcasting Services; Norfolk and Windsor, VA

AGENCY: Federal Communications Commission.

ACTION: Final rule, grant.

SUMMARY: This document grants a Petition for Reconsideration filed by CC Licenses, LLC, directed to the Report and Order in this proceeding. In doing so, it reallots Channel 299A from Windsor to Norfolk, Virginia, and modifies the Station WJCD license to specify Norfolk as the community of license. To replace the loss of a sole local service at Windsor, it also reallots Channel 287B from Norfolk to Windsor and modifies the Station WKUS license to specify Windsor as the community of license. The reference coordinates for the Channel 299A allotment at Norfolk, Virginia, are 36-55-26 and 76-15-05. The reference coordinates for the Channel 287B allotment at Windsor, Virginia, are 36-48-47 and 76-35-57. With this action, the proceeding is terminated.

FOR FURTHER INFORMATION CONTACT: Robert Hayne, Media Bureau

(202) 418-2177.

SUPPLEMENTARY INFORMATION: This is a synopsis of the Memorandum Opinion and Order in MB Docket No. 05-150, adopted January 31, 2008, and released February 1, 2008. The full text of this decision is available for inspection and copying during normal business hours in the FCC Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or www.BCPIWEB.com. On March 14, 2008, the Media Bureau's Consolidated Database System will reflect as the reserved assignment for Station WJCD, Channel 299A at Norfolk, Virginia in lieu of Windsor, Virginia, and the reserved assignment for Station WKUS, Channel 287B at Windsor, Virginia in lieu of Norfolk, Virginia. The Commission will not send a copy of this Memorandum Opinion and Order pursuant to the Congressional Review Act, see 5 U.S.C. 801(a)(1)(A), because the adopted rules are rules of particular applicability.

List of Subjects in 47 CFR Part 73

Radio, Radio broadcasting.

Federal Communications Commission.
John A. Karousos,
Assistant Chief, Audio Division, Media Bureau.

[FR Doc. E8-3263 Filed 2-20-08; 8:45 am]

BILLING CODE 6712-01-P